ENVIRONMENTAL PROTECTION AGENCY

[FRL-8910-2]

Science Advisory Board Staff Office; Notification of Two Public Teleconferences of the Science Advisory Board Radiation Advisory Committee Augmented for the Review of EPA's Radiogenic Cancer Risk Assessment

AGENCY: Environmental Protection Agency (EPA).

ACTION: Notice.

SUMMARY: The EPA Science Advisory Board (SAB) Staff Office announces two public teleconferences of the SAB Radiation Advisory Committee (RAC) to discuss its draft review report of EPA's draft document entitled “EPA Radiogenic Cancer Risk Models and Projections for the U.S. Population,” December 2008.

DATES: The teleconference dates are Thursday, June 18, 2009 from 1 p.m. to 4 p.m. (Eastern Daylight Time) and Wednesday, July 22, 2009, from 1 p.m. to 4 p.m. (Eastern Daylight Time).

ADDRESSES: The teleconferences will be conducted by telephone only.

FOR FURTHER INFORMATION CONTACT: Members of the public who wish to obtain the call-in number and access code for the public teleconference may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web site at http://www.epa.gov/sab.

SUPPLEMENTARY INFORMATION: Background: Pursuant to the Federal Advisory Committee Act, 5 U.S.C., App. 2 (FACA), the SAB Staff Office hereby gives notice of two public teleconference meetings of the SAB Radiation Advisory Committee (RAC), to discuss its draft report regarding its review of EPA's radiogenic cancer risk assessment. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

EPA's Office of Air and Radiation and Indoor Air (ORIA), has requested that the SAB Radiation Advisory Committee (RAC) provide advice to EPA on its most recent radiogenic cancer risk assessment, a draft document entitled EPA Radiogenic Cancer Risk Models and Projections for the U.S. Population, December, 2008. A public conference call was held on Friday, February 27, 2009 and a public face-to-face review meeting was held on March 23 to 25, 2009 in the Washington, DC metropolitan area.

Availability of Meeting Materials: The meeting agendas and the SAB public draft report which will be the subject of the discussions will be posted on the SAB Web site prior to the teleconferences.

The EPA draft document, “EPA Radiogenic Cancer Risk Models and Projections for the U.S. Population,” December 2008 is available at http://epa.gov/radiation/assessment/pubs.html.

Technical Contact: For questions and information concerning the EPA's draft document being reviewed, please contact Dr. Mary E. Clark of the U.S. EPA, ORIA by telephone at (202) 343-9348, fax at (202) 243-2395, or e-mail at clark.marye@epa.gov.

Procedures for Providing Public Input: Interested members of the public may submit relevant written or oral information for the SAB's RAC to consider during the review process. Oral Statements: In general, individuals or groups requesting an oral presentation at a public teleconference will be limited to three minutes per speaker with no more than a total of fifteen minutes for all speakers. Interested parties who wish to be placed on the public speaker list should contact the DFO, contact information provided above, in writing via e-mail seven days prior to the teleconference meeting date. For the Thursday, June 18, 2009 teleconference meeting, the deadline is Thursday, June 11, 2009. For the Wednesday, July 22, 2009 teleconference meeting, the deadline is Wednesday, July 15, 2009. Written Statements: Written statements should be received in the SAB Staff Office seven days prior to the teleconference meeting, so that the information may be made available to the SAB's augmented RAC for their consideration. For the Thursday, June 18, 2009 teleconference meeting, the deadline is Thursday, June 11, 2009; for the Wednesday, July 22, 2009 meeting the deadline is Wednesday, July 15, 2009. Written statements should be supplied to the DFO in the following formats: one hard copy with original signature, and one electronic copy via e-mail to kooyoomjian.jack@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Meeting Accommodations: For information on access or services for individuals with disabilities, please contact the DFO, contact information provided above. To request accommodation of a disability, please contact the DFO, preferably at least 10 days prior to the meeting, to give EPA as much time as possible to process your request.

Dated: May 9, 2009.
Anthony F. Maciorowski,
Deputy Director, EPA Science Advisory Board Staff Office.

[FR Doc. E9-12480 Filed 5-27-09; 8:45 am]

BILLING CODE 6560-50-P